DEPARTMENT OF THE INTERIOR

Fish and Wildlife Service

[Docket No. FWS-HQ-IA-2024-0033; FXIA16710900000-256-FF09A30000]

Conference of the Parties to the Convention on International Trade in Endangered Species of Wild Fauna and Flora (CITES); Twentieth Regular Meeting; Provisional Agenda; Announcement of Public Meeting

AGENCY: Fish and Wildlife Service, Interior.

ACTION: Notice.

SUMMARY: To implement the Convention on International Trade in Endangered Species of Wild Fauna and Flora (CITES or the Convention), the Parties to the Convention meet periodically to review what species in international trade should be regulated and other aspects of CITES implementation. The twentieth regular meeting of the Conference of the Parties to CITES (CoP20) is scheduled to take place in Samarkand, Uzbekistan, November 24-December 5, 2025. Currently, the United States is developing its negotiating positions on proposed resolutions, decisions, and amendments to the CITES Appendices (species proposals), as well as other agenda items that have been submitted by other Parties, the permanent CITES committees, and the CITES Secretariat for consideration at CoP20. With this notice, the U.S. Fish and Wildlife Service (Service) announces the provisional agenda for CoP20, solicits your comments on the items on the provisional agenda, and schedules a public meeting to seek comments on the items included in the provisional agenda.

DATES:

Public meeting: The public meeting will be held on September 10, 2025, at 1:00 p.m. EDT.

Comment submission: In developing the U.S. negotiating positions on species proposals and proposed resolutions, decisions, and other agenda items submitted by other Parties, the permanent CITES committees, and the CITES Secretariat for consideration at CoP20, we will consider written information and comments you submit if we receive them by September 17, 2025.

ADDRESSES:

Public meeting: The public meeting will be held in the Stewart Lee Udall Department of the Interior Building at 1849 C Street NW, Washington, DC 20240. Directions to the building can obtained by contacting the Division of Management Authority (see FOR FURTHER INFORMATION CONTACT). For more information about the meeting, see “Announcement of Public Meeting” under SUPPLEMENTARY INFORMATION.

Comment submission: You may submit comments pertaining to items on the provisional agenda for discussion at CoP20 by one of the following methods:

(1) Electronically: https://www.regulations.gov. Follow the instructions for submitting comments on FWS-HQ-IA-2024-0033 (the docket number for this notice).

(2) U.S. mail: Submit by U.S. mail to Public Comments Processing; Attn: Docket No. FWS-HQ-IA-2024-0033; U.S. Fish and Wildlife Service; MS: PRB (JAO/3W); 5275 Leesburg Pike, Falls Church, VA 22041-3803.

We will not accept email or faxes. Comments and materials we receive, as well as supporting documentation, will be available for public inspection on https://www.regulations.gov.

FOR FURTHER INFORMATION CONTACT: For information pertaining to resolutions, decisions, and other agenda items, contact Naimah Aziz, Head, Division of Management Authority, at 703-358-2028 (telephone); 703-358-2276 (fax); or managementauthority@fws.gov (email). For information pertaining to species proposals, contact Thomas E. Leuteritz, Acting Head, Division of Scientific Authority, at 703-358-1708 (telephone); 703-358-2276 (fax); or scientificauthority@fws.gov (email). Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Background

The Convention on International Trade in Endangered Species of Wild Fauna and Flora, hereinafter referred to as CITES or the Convention, is an international treaty designed to control and regulate international trade in certain animal and plant species that are or may be affected by trade and are now, or potentially may become, threatened with extinction. Species are included in the Appendices to CITES, which are available on the CITES Secretariat's website at https://www.cites.org and at 50 CFR 23.91(a) (How do I find out if a species is listed?). The official CITES list includes species of wildlife and plants placed in Appendix I, II, and III in accordance with the provisions of Articles XV and XVI of the Convention. This list is maintained by the CITES Secretariat (Secretariat) based on decisions of the Parties. You can access the official list from the CITES website (see section 23.7) and at 50 CFR 23.7(f).

Currently there are 185 Parties to CITES—184 countries, including the United States, and one regional economic integration organization, the European Union. The Convention calls for regular biennial meetings of the Conference of the Parties unless the Conference decides otherwise. At these meetings, the Parties review the implementation of CITES, make provisions enabling the Secretariat in Switzerland to carry out its functions, consider amendments to the species included in Appendices I and II, consider reports presented by the Secretariat, and make recommendations for the improved effectiveness of CITES. Any country that is a Party to CITES may propose amendments to Appendices I and II, as well as resolutions, decisions, and agenda items for consideration by all the Parties. The Service's regulations governing this public process are found in title 50 of the Code of Federal Regulations (CFR) at 50 CFR 23.87.

The Endangered Species Act (ESA; 16 U.S.C. 1531 et seq.), in part, implements CITES and incorporates its Appendices of CITES-listed species into U.S. law (see, 16 U.S.C. 1532(4), 1537a, 1538(c), 1538(g), 1539(g), 1540(f)), and the Service has promulgated U.S. CITES implementing regulations (see 50 CFR part 23). The Secretary of the Interior is designated the U.S. Management Authority and U.S. Scientific Authority for CITES purposes, and the respective functions of each are carried out by the Service. The ESA prohibits, among other things, any person subject to the jurisdiction of the United States to engage in any trade in any specimens contrary to the provisions of the Convention, or to possess any specimens traded contrary to the provisions of the Convention. U.S. CITES implementing regulations explain the administration of CITES, the CITES listing process, the effective dates of CITES listings, and where to find official CITES documents and the CITES Appendices, as set forth in 50 CFR 23.7 and 23.84-23.91.

At least 150 days before any meeting of the Conference of Parties to CITES (CoP)is held, any Party may submit a proposed amendment to Appendix I or II (e.g., for a species to be included in, removed from, or transferred between the CITES Appendices (CITES Art. XV(1)(a); 50 CFR 23.87(b)(2)). The Secretariat then makes publicly available and provides all Parties a list of proposed amendments (CITES Art. XV(1)(a), (2)(c); 50 CFR 23.7(f)(5)). Pursuant to 50 CFR 23.7 and 23.86, as we receive information on the upcoming CoP, we notify the public through Federal Register notices or on our website. The CoP can adopt amendments to Appendices I and II by a two-thirds majority vote of those Parties in attendance. Appendix-I and -II species listings adopted at the CoP are effective 90 days after the last day of the CoP, unless otherwise specified in the proposal.

This is our third notice in a series of Federal Register notices that, together with the announced public meeting, provides the public with an opportunity to participate in the development of U.S. negotiating positions for CoP20. We published our first CoP20-related Federal Register notice on March 22, 2024 (89 FR 20489), in which we requested information and recommendations on animal and plant species proposals, and information and recommendations on proposed resolutions, decisions, and agenda items for the United States to consider submitting for consideration at CoP20, and provided preliminary information on how to request approved observer status for nongovernmental organizations that wish to attend the meeting.

We published our second CoP20-related Federal Register notice on December 26, 2024 (89 FR 105074). In that notice, we responded to recommendations received from the public concerning proposed amendments to the CITES Appendices (species proposals) and proposed resolutions, decisions, and agenda items that the United States might submit for consideration at CoP20. We also invited public comments and information on these potential proposals and working documents and provided information on how U.S. nongovernmental organizations can attend CoP20 as observers.

These two prior CoP20 Federal Register notices are in the docket (FWS-HQ-IA-2024-0033) at https://www.regulations.gov. A link to these notices, along with information on U.S. preparations for CoP20, can also be found at https://www.fws.gov/international-affairs/cites/cop20.

On June 27, 2025, the United States submitted to the CITES Secretariat, for consideration at CoP20, its species proposals, proposed resolutions, proposed decisions, and other agenda items. These documents are listed on the CITES Secretariat's website at https://cites.org/eng/cop20.

Announcement of Provisional Agenda for CoP20

The provisional agenda for CoP20 is available on the CITES Secretariat's website at https://cites.org/eng/cop/20/agenda-documents. The working documents associated with the items on the provisional agenda, including proposed resolutions, proposed decisions, and discussion documents, can be found at that location. To view the working document associated with a particular agenda item, locate the item on the provisional agenda, and click on the document link in the column titled “Files.” The proposals to amend Appendices I and II can be accessed at https://cites.org/eng/cop/20/amendment-proposals.

Announcement of Public Meeting

We will hold a public meeting to seek comments on the items included in the provisional agenda for CoP20. The public meeting will be held on the date specified in DATES. We will post additional information regarding the public meeting on our website at https://www.fws.gov/international-affairs/cites/cop20, including how to register for the meeting, and how to indicate if you intend to provide comments during the meeting.

Public Comments

You must submit your information and comments to us no later than the date specified in DATES, above, to ensure that we consider them. We will not consider comments sent by email or fax, or to an address not listed in ADDRESSES. Comments submitted electronically using the Federal eRulemaking Portal must be received by 11:59 p.m. eastern time on the closing date.

Comments and materials received will be posted for public inspection on https://www.regulations.gov (see ADDRESSES). Our practice is to post all comments, including names and addresses of respondents, and to make comments, including names and home addresses of respondents, available for public review. There may be circumstances in which we would withhold from public review a respondent's name and/or address, as allowable by law. If you wish for us to withhold your name and/or address, you must state this prominently at the beginning of your comment, but we cannot guarantee that we will be able to do so. We will make all comments and materials submitted by organizations or businesses, and by individuals identifying themselves as representatives or officials of organizations or businesses, available for public inspection in their entirety on https://www.regulations.gov at Docket No. FWS-HQ-IA-2024-0033.

Future Actions

Through another notice and website posting in advance of CoP20, we will announce the tentative U.S. negotiating positions on species proposals, proposed resolutions, proposed decisions, and agenda items that were submitted by other Parties, the permanent CITES committees, and the CITES Secretariat for consideration at CoP20.

Author

The primary author of this notice is Michelle Turton, CITES Policy Specialist, Division of Management Authority, U.S. Fish and Wildlife Service.

Authority

The authority for this action is the Endangered Species Act of 1973, as amended (16 U.S.C. 1531 et seq.).

Justin J. Shirley,
Principal Deputy Director, Exercising the Delegated Authority of the Director, U.S. Fish & Wildlife Service.

[FR Doc. 2025-15664 Filed 8-15-25; 8:45 am]

BILLING CODE 4333-15-P